DEPARTMENT OF AGRICULTURE

Submission for OMB Review; Comment Request

June 7, 2022.

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by July 11, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Forest Service

Title: Cooperative Wildland Fire Management and Stafford Act Response Agreements.

OMB Control Number: 0596-0242.

Summary of Collection: The primary authorities allowing for the agreements are the Reciprocal Fire Protection Act, 42 U.S.C 1856, and the Stafford Act, 42 U.S.C. 5121. The proposed Cooperative Wildland Fire Management and Stafford Act Response Agreement template will allow authorized agencies to streamline coordination with other Federal, State, local, and Tribal governments in wildland fire protection activities, and to document in an agreement the roles and responsibilities among the parties, ensuring maximum protection of resources.

Need and Use of the Information: To negotiate, develop, and administer Cooperative Wildland Fire Management and Stafford Act Response Agreements, the USDA Forest Service, DOI Bureau of Land Management, DOI Fish and Wildlife Service, DOI National Park Service, and DOI Bureau of Indian Affairs must collect information from willing State, local, and Tribal governments from the pre-agreement to the closeout stage via telephone calls, emails, postal mail, and person-to-person meetings. There are multiple means to communicate responses, which include forms, optional forms, templates, electronic documents, in person, telephone, and email. The scope of information collected includes the project type, project scope, financial plan, statement of work, and cooperator's business information. Without the collected information, authorized Federal agencies would not be able to negotiate, create, develop, and administer cooperative agreements with stakeholders for wildland fire protection, approved fire severity activities, and presidentially declared emergencies or disasters. Authorized Federal agencies would be unable to develop or monitor projects, make payments, or identify financial and accounting errors.

Description of Respondents: State, local and Tribal Governments.

Number of Respondents: 320.

Frequency of Responses: Reporting: On occasion.

Total Burden Hours: 47,040.

Levi S. Harrell,
Departmental Information Collection Clearance Officer.

[FR Doc. 2022-12551 Filed 6-9-22; 8:45 am]

BILLING CODE 3411-15-P